OFFICE OF MANAGEMENT AND BUDGET

FY 2007 Pilot Program for Alternative Approaches to Performance and Accountability Reporting Open Forum

AGENCY: Office of Management and Budget (OMB).

ACTION: Notice of date change for open forum.

SUMMARY: The open forum on the FY 2007 Performance and Accountability Report (PAR) pilot previously scheduled for April 14, 2008 will now be held at the National Academy of Public Administration (NAPA) on April 10, 2008 from 10 a.m. to 1 p.m. Those interested in participating should respond to the questions listed below by Email to either Regina Kearney at rkearney@omb.eop.gov, or Pat Harris at pharris@omb.eop.gov by close of business March 28, 2008.

• Do the PAR pilot component documents (Annual Financial Report, Annual Performance Report, and Highlights):

○ Provide an enhanced presentation of the financial and performance information in a more transparent way (i.e. information is presented in a manner that is user friendly and easy enough for a novice reader to understand)?

○ Report financial and performance information more meaningful (i.e. financial and performance data is reliable, relevant, and include measurable results linked to strategic goals)?

○ Tailor financial and performance information to meet stakeholder needs?

○ Report performance and financial results candidly and clearly articulate remedies to performance or financial shortfalls?

• Are the PAR pilot component documents easily accessible via the web and are they easy to use?

• Did the development of the PAR pilot component documents:

○ Improve internal and external communications?

○ Increase/decrease the burden on preparers?

• What are individuals' recommendations for improving performance and financial reporting?

For additional background information regarding the open forum and the PAR pilot, please see OMB's pilot notice of January 30, 2008 (73 FR 5600).

DATES: April 10, 2008 from 10 a.m. to 1 p.m.

ADDRESSES: The forum will be held in the National Academy of Public Administration (NAPA) building located at 900 7th Street, NW., Suite 600, Washington, DC 20001.

Due to potential delays in OMB's receipt and processing of mail sent through the U.S. Postal Service, we encourage respondents to submit comments electronically to ensure timely receipt. We cannot guarantee that comments mailed will be received before the forum date. Electronic mail comments may be submitted to: rkearney@omb.eop.gov or pharris@omb.eop.gov. Please include “PAR Pilot Open Forum” in the subject line and put the full body of your comments in the text of the electronic message and as an attachment. Please include your name, title, organization, postal address, telephone number, and E-mail address in the text of the message. Comments may also be submitted by mail at 725 17th St., NW., Room 6025, Washington, DC 20503. Please advise also if you will require any special accommodations in order to participate in the forum.

FOR FURTHER INFORMATION CONTACT: Regina Kearney, OMB Office of Federal Financial Management, 202-395-3993 or e-mail: rkearney@omb.eop.gov. Pat Harris OMB, Office of Performance and Personnel Management, at 202-395-5018 or pharris@omb.eop.gov.

Dustin Brown,
Deputy Assistant Director for Management.

[FR Doc. 08-1019 Filed 3-12-08; 8:45 am]

BILLING CODE 3110-01-M